DEPARTMENT OF HEALTH AND HUMAN SERVICES

Administration for Children and Families

Proposed Information Collection Activity; Comment Request

Proposed Project

Title: Office of Refugee Resettlement Individual Development (IDA) Program Post-Asset Acquisition Data Collection.

OMB No.: New Collection.

Description: In October 1999 the Administration for Children and Families (ACF), Office of Refugee Resettlement (ORR), began funding Individual Development Account (IDA) programs, a discretionary grant program authorized by Section 412(c)(1)(A) of the Immigration and Nationality Act (INA) (8 U.S.C. 1522(c)(1)(A)), for low-income refugees. IDAs are a tool that enable low-income families to save, build assets, and enter the financial mainstream. Since the inception of the ORR IDA Program, data have never been collected from the former refugee participants to assess how they are doing since they acquired their asset (e.g., home, small business, car, post-secondary education/vocational training/recertification, computer, or home renovation).

This report will be used to document the experiences of the refugees and their families since they acquired their asset. There is much to be learned from the experiences of IDA programs serving refugees. ORR has requested this report in order to document long-term program outcomes and understand what happens after a participant obtains his/her asset. The lessons drawn will not only have direct implications for ORR, but also for currently funded refugee IDA grantees. The broader asset field will also benefit from learning about the achievements and challenges of a program that serves refugees.

Respondents: Former ORR IDA participants who acquired an asset through the ORR IDA Program.

Annual Burden Estimates
Instrument | Number of respondents | Number of responses per respondent | Average burden hours per response | Total burden hours
Former IDA Participants Data | 200 | 1 | .30 | 60
Former IDA Grantee Agencies | 48 | 1 | 10 | 480

Estimated Total Annual Burden Hours: 540.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 2, 2008.
Robert Sargis,
Reports Clearance Officer.

[FR Doc. 08-24 Filed 1-8-08; 8:45 am]

BILLING CODE 4184-01-M